DEPARTMENT OF ENERGY

Federal Energy Regulatory Commission

Combined Notice of Filings #1

Take notice that the Commission received the following electric rate filings:

Docket Numbers: ER16-2449-002.

Applicants: Boulder Solar II, LLC.

Description: Compliance filing: Boulder Solar Compliance Filing to be effective 9/1/2016.

Filed Date: 4/8/21.

Accession Number: 20210408-5220.

Comments Due: 5 p.m. ET 4/29/21.

Docket Numbers: ER21-628-002.

Applicants: Harry Allen Solar Energy LLC.

Description: Compliance filing: Harry Allen Solar Energy to be effective 3/1/2021.

Filed Date: 4/8/21.

Accession Number: 20210408-5207.

Comments Due: 5 p.m. ET 4/29/21.

Docket Numbers: ER21-1636-000.

Applicants: Midcontinent Independent System Operator, Inc.

Description: § 205(d) Rate Filing: 2021-04-07_Attachments FF-3 Clean-Up to be effective 6/7/2021.

Filed Date: 4/7/21.

Accession Number: 20210407-5308.

Comments Due: 5 p.m. ET 4/28/21.

Docket Numbers: ER21-1637-000.

Applicants: ISO New England Inc., New England Power Pool Participants Committee.

Description: § 205(d) Rate Filing: ISO-NE & NEPOOL; Joint Filing Regarding Offer Review Trigger Prices to be effective 6/8/2021.

Filed Date: 4/7/21.

Accession Number: 20210407-5305.

Comments Due: 5 p.m. ET 4/28/21.

Docket Numbers: ER21-1638-000.

Applicants: Daylight I, LLC, Edwards Solar Line I, LLC, Sanborn Solar Line I, LLC.

Description: Request for Waivers and Blanket Authorization of Daylight I, LLC, et al.

Filed Date: 4/2/21.

Accession Number: 20210402-5306.

Comments Due: 5 p.m. ET 4/23/21.

Docket Numbers: ER21-1639-000.

Applicants: PJM Interconnection, L.L.C.

Description: § 205(d) Rate Filing: Amendment to ISA, Service Agreement No. 5813; Queue No. AD2-072 to be effective 9/29/2020.

Filed Date: 4/8/21.

Accession Number: 20210408-5038.

Comments Due: 5 p.m. ET 4/29/21.

Docket Numbers: ER21-1640-000.

Applicants: Pacific Gas and Electric Company.

Description: Notice of Termination of Service Agreement Nos. 52 and 53 for Berry Petroleum—Tannehill and Berry Petroleum University of Pacific Gas and Electric Company.

Filed Date: 4/7/21.

Accession Number: 20210407-5336.

Comments Due: 5 p.m. ET 4/28/21.

Docket Numbers: ER21-1641-000.

Applicants: New York Transco, LLC, New York Independent System Operator, Inc.

Description: § 205(d) Rate Filing: 205 CEII EPCA among Transco, Castleton and NYISO SA No. 2615 to be effective 3/1/2021.

Filed Date: 4/8/21.

Accession Number: 20210408-5138.

Comments Due: 5 p.m. ET 4/29/21.

Docket Numbers: ER21-1642-000.

Applicants: Southern California Edison Company.

Description: § 205(d) Rate Filing: ED&P Letter Agreement Falcon Energy Storage Holdings, LLC—Condor Storage to be effective 4/9/2021.

Filed Date: 4/8/21.

Accession Number: 20210408-5150.

Comments Due: 5 p.m. ET 4/29/21.

Docket Numbers: ER21-1643-000.

Applicants: Southwest Power Pool, Inc.

Description: § 205(d) Rate Filing: 2450R2 KEPCO NITSA NOA Cancellation to be effective 12/1/2020.

Filed Date: 4/8/21.

Accession Number: 20210408-5157.

Comments Due: 5 p.m. ET 4/29/21.

Take notice that the Commission received the following qualifying facility filings:

Docket Numbers: QF16-905-000.

Applicants: Ampersand Chasm Falls Hydro LLC.

Description: Refund Report of Ampersand Chasm Falls Hydro LLC.

Filed Date: 4/8/21.

Accession Number: 20210408-5191.

Comments Due: 5 p.m. ET 4/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2021.
Nathaniel J. Davis, Sr.,
Deputy Secretary.

[FR Doc. 2021-07635 Filed 4-13-21; 8:45 am]

BILLING CODE 6717-01-P